ENVIRONMENTAL PROTECTION AGENCY

[EPA-HQ-OW-2012-0035; FRL-9726-8]

Announcement of Public Meeting on the Consumer Confidence Report (CCR) Rule Retrospective Review and Request for Public Comment on Potential Approaches to Electronic Delivery of the CCR

AGENCY: Environmental Protection Agency (EPA).

ACTION: Notice of a public meeting and request for public comments.

SUMMARY: The U.S. Environmental Protection Agency (EPA) will be holding a public meeting on October 1, 2012, to listen to stakeholder comments on potential approaches for providing Consumer Confidence Reports (CCR) via electronic delivery. EPA plans to discuss its analysis of electronic delivery and present potential approaches and considerations for stakeholders to evaluate when pursuing electronic delivery of CCRs. EPA invites the public to participate in this listening session. EPA has posted the draft CCR Electronic Delivery Approaches document for public comment on its Web site at http://water.epa.gov/lawsregs/rulesregs/sdwa/ccr/. The instructions for registration for the meeting are located in the SUPPLEMENTARY INFORMATION section of this notice.

DATES: The listening session will be held on October 1, 2012, from 1:00 p.m. to 4:00 p.m., Eastern Standard Time. The 30-day public comment period starts September 11, 2012 and will end on October 11, 2012.

ADDRESSES: The meeting will be held at the EPA's Potomac Yards North (Bldg. 2), 2733 S. Crystal Drive, Arlington, VA 22202, and will be open to the public.

How to Access Information: Meeting materials, including the draft CCR Electronic Delivery Approaches document, will be emailed to registrants or they can be accessed through EPA Docket ID No. EPA-HQ-OW-2012-0035 and EPA's Web site at http://water.epa.gov/lawsregs/rulesregs/sdwa/ccr/; background information (including the CCR and Public Notification Rules) is available in this docket. Comments received on the “Preliminary Plan for Periodic Retrospective Reviews of Existing Regulations” are available for viewing in EPA's Docket No. EPA-HQ-OA-2011-0154. Publicly available docket materials are available either electronically through www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Adrienne Harris, Drinking Water Protection Division, Office of Ground Water and Drinking Water (MC4606M), Environmental Protection Agency, 1200 Pennsylvania Ave. NW., Washington, DC 20460 at (202) 250-8793 or harris.adrienne@epa.gov.

SUPPLEMENTARY INFORMATION:

Public Meeting Registration

Individuals planning on participating in the public meeting must register for the meeting at https://www.horsleywitten.com/ccrretroreview. Registration for this meeting will end on September 26, 2012, or earlier if the meeting room capacity is reached. If there is additional space, on-site registration will be allowed on a first-come, first-served basis.

Meeting Information

The session will begin with a brief presentation by the EPA Office of Ground Water and Drinking Water. Copies of EPA's presentation will be available at the meeting and posted on EPA's Web site following the meeting at http://water.epa.gov/lawsregs/rulesregs/sdwa/ccr/. An oral comment session will follow the presentation. Oral comments will be limited to three (3) minutes each, and it is preferred that only one person present the statement on behalf of a group or organization to accommodate as many participants as possible. Registered attendees requesting to make an oral presentation will be placed on the commenting schedule. Time slots are limited and will be filled on a first-come, first-served basis. EPA may ask clarifying questions during the oral presentations, but will not respond to the presentations. A facilitated participant discussion of the potential CCR Electronic Delivery Approaches will follow the oral comment session. You may present oral comments during the meeting and/or submit written comments and supporting information directly to EPA up until the close of the public comment period on October 11, 2012, to provide an opportunity for participants to respond to what they heard at the meeting. Written statements and supporting information submitted during the comment period will be considered in the same manner as any oral comments and supporting information presented at the public meeting. Written comments may be submitted to ccrretrospectivereview@epa.gov. If participants are finished before 4:00 p.m., the meeting may come to a close before the scheduled 4:00 p.m. end time. All attendees must go through a metal detector, sign in with the security desk and show government-issued photo identification to enter the building.

Special Accommodations

For information on access or accommodations for individuals with disabilities, please contact Adrienne Harris at (202) 250-8793 or by email at harris.adrienne@epa.gov. Please allow at least five business days prior to the meeting to give EPA time to process your request.

Background

Consumer Confidence Reports are a key part of the public right-to-know as established in the 1996 Amendments to the Safe Drinking Water Act (SDWA, section 1414(c)). The Consumer Confidence Report, or CCR, is an annual water quality report that a community water system is required by Federal regulations (63 FR 44512, August 19, 1998) to provide to its customers by July 1 each year. Community Water Systems (CWSs) serving more than 10,000 persons are required to mail or otherwise directly deliver these reports. States may allow CWSs serving fewer than 10,000 persons to provide these reports by other means. The report lists the regulated contaminants found in the drinking water, as well as health effects information related to violations of the drinking water standards. CCRs often allow for informed choices and increases dialogue between water systems and their customers. More information on CCRs can be accessed on EPA's Web site at http://water.epa.gov/lawsregs/rulesregs/sdwa/ccr/index.cfm.

In August 2011, EPA finalized its “Plan for Periodic Retrospective Reviews of Existing Regulations.” Since 1998, when the CCR rule was finalized, the communication of information and the speed with which information can be shared have greatly expanded, along with a corresponding increase in the diversity of communication tools. EPA included the CCR Rule in its retrospective review plan to explore ways to promote greater transparency and public participation in protecting the nation's drinking water. Through the Agency's CCR retrospective review, EPA is evaluating opportunities to improve the effectiveness of communicating drinking water information to the public, while lowering the burden of CCR requirements for water systems and states. One example suggested by water systems is to allow electronic delivery through email, thereby reducing mailing charges. As EPA evaluates electronic delivery approaches, the Agency will consider impacts on consumer burden, environmental justice and state implementation. By improving communication, customers are better prepared to make informed decisions and the readership of CCRs also may increase.

Dated: September 4, 2012.
Nancy K. Stoner,
Acting Assistant Administrator, Office of Water.

[FR Doc. 2012-22344 Filed 9-10-12; 8:45 am]

BILLING CODE 6560-50-P